DEPARTMENT OF HEALTH AND HUMAN SERVICES

Health Resources and Services Administration

National Vaccine Injury Compensation Program; List of Petitions Received

AGENCY: Health Resources and Services Administration, HHS.

ACTION: Notice.

SUMMARY: The Health Resources and Services Administration (HRSA) is publishing this notice of petitions received under the National Vaccine Injury Compensation Program (the Program), as required by Section 2112(b)(2) of the Public Health Service (PHS) Act, as amended. While the Secretary of Health and Human Services is named as the respondent in all proceedings brought by the filing of petitions for compensation under the Program, the United States Court of Federal Claims is charged by statute with responsibility for considering and acting upon the petitions.

FOR FURTHER INFORMATION CONTACT: For information about requirements for filing petitions, and the Program in general, contact the Clerk, United States Court of Federal Claims, 717 Madison Place, NW., Washington, DC 20005, (202) 357-6400. For information on HRSA's role in the Program, contact the Director, National Vaccine Injury Compensation Program, 5600 Fishers Lane, Room 11C-26, Rockville, MD 20857; (301) 443-6593, or visit our Web site at: http://www.hrsa.gov/vaccinecompensation/index.html.

SUPPLEMENTARY INFORMATION: The Program provides a system of no-fault compensation for certain individuals who have been injured by specified childhood vaccines. Subtitle 2 of Title XXI of the PHS Act, 42 U.S.C. 300aa-10 et seq., provides that those seeking compensation are to file a petition with the U.S. Court of Federal Claims and to serve a copy of the petition on the Secretary of Health and Human Services, who is named as the respondent in each proceeding. The Secretary has delegated this responsibility under the Program to HRSA. The Court is directed by statute to appoint special masters, who take evidence, conduct hearings as appropriate, and make initial decisions as to eligibility for, and amount of, compensation.

A petition may be filed with respect to injuries, disabilities, illnesses, conditions, and deaths resulting from vaccines described in the Vaccine Injury Table (the Table) set forth at 42 CFR 100.3. This Table lists for each covered childhood vaccine the conditions that may lead to compensation and, for each condition, the time period for occurrence of the first symptom or manifestation of onset or of significant aggravation after vaccine administration. Compensation may also be awarded for conditions not listed in the Table and for conditions that are manifested outside the time periods specified in the Table, but only if the petitioner shows that the condition was caused by one of the listed vaccines.

Section 2112(b)(2) of the PHS Act, 42 U.S.C. 300aa-12(b)(2), requires that “[w]ithin 30 days after the Secretary receives service of any petition filed under section 2111 the Secretary shall publish notice of such petition in the Federal Register.” Set forth below is a list of petitions received by HRSA on October 1, 2015, through October 31, 2015. This list provides the name of petitioner, city and state of vaccination (if unknown then city and state of person or attorney filing claim), and case number. In cases where the Court has redacted the name of a petitioner and/or the case number, the list reflects such redaction.

Section 2112(b)(2) also provides that the special master “shall afford all interested persons an opportunity to submit relevant, written information” relating to the following:

1. The existence of evidence “that there is not a preponderance of the evidence that the illness, disability, injury, condition, or death described in the petition is due to factors unrelated to the administration of the vaccine described in the petition,” and

2. Any allegation in a petition that the petitioner either:

a. “[S]ustained, or had significantly aggravated, any illness, disability, injury, or condition not set forth in the Vaccine Injury Table but which was caused by” one of the vaccines referred to in the Table, or

b. “[S]ustained, or had significantly aggravated, any illness, disability, injury, or condition set forth in the Vaccine Injury Table the first symptom or manifestation of the onset or significant aggravation of which did not occur within the time period set forth in the Table but which was caused by a vaccine” referred to in the Table.

In accordance with Section 2112(b)(2), all interested persons may submit written information relevant to the issues described above in the case of the petitions listed below. Any person choosing to do so should file an original and three (3) copies of the information with the Clerk of the U.S. Court of Federal Claims at the address listed above (under the heading “For Further Information Contact”), with a copy to HRSA addressed to Director, Division of Injury Compensation Programs, Healthcare Systems Bureau, 5600 Fishers Lane, Room 11C-26, Rockville, MD 20857. The Court's caption (Petitioner's Name v. Secretary of Health and Human Services) and the docket number assigned to the petition should be used as the caption for the written submission. Chapter 35 of title 44, United States Code, related to paperwork reduction, does not apply to information required for purposes of carrying out the Program.

Dated: November 19, 2015.
James Macrae,
Acting Administrator.

List of Petitions Filed

1. Maria Crespo on behalf of N. S., Cooper City, Florida, Court of Federal Claims No: 15-1100V

2. Loraine Herod, Cleveland, Ohio, Court of Federal Claims No: 15-1101V

3. Linda Gusky, Mt. Pleasant, Pennsylvania, Court of Federal Claims No: 15-1102V

4. David Helton, McKinney, Texas, Court of Federal Claims No: 15-1105V

5. Joanne Falk, Gaithersburg, Maryland, Court of Federal Claims No: 15-1106V

6. Karen Jehlen, Sussex, New Jersey, Court of Federal Claims No: 15-1107V

7. Galen L. Strong, Charlottesville, Virginia, Court of Federal Claims No: 15-1108V

8. Dennis Vivians, Chicago, Illinois, Court of Federal Claims No: 15-1111V

9. Dorothy Handel, Sterling, Illinois, Court of Federal Claims No: 15-1112V

10. Glenda Neher, Oklahoma City, Oklahoma, Court of Federal Claims No: 15-1114V

11. James A. Gustafson, El Jebel, Colorado, Court of Federal Claims No: 15-1115V

12. Jeanette Phillips, Boston, Massachusetts, Court of Federal Claims No: 15-1118V

13. Conception Plevak, Milwaukee, Wisconsin, Court of Federal Claims No: 15-1119V

14. Rachal P. LaPrairie, Alexandria, Louisiana, Court of Federal Claims No: 15-1120V

15. Seth Burk, Danville, Pennsylvania, Court of Federal Claims No: 15-1123V

16. Ashley House, Jacksonville, Florida, Court of Federal Claims No: 15-1124V

17. Ellyson Ostrovsky, Beachwood, Ohio, Court of Federal Claims No: 15-1125V

18. Thomas Simkiss, Newtown, Pennsylvania, Court of Federal Claims No: 15-1127V

19. Kathleen Heyer, Cedar Rapids, Iowa, Court of Federal Claims No: 15-1128V

20. Jamie Saracino, Dade City, Florida, Court of Federal Claims No: 15-1129V

21. James Woodward, Baltimore, Maryland, Court of Federal Claims No: 15-1130V

22. Susanne Whirley, Baxter, Minnesota, Court of Federal Claims No: 15-1131V

23. Denise Guzman, Whittier, California, Court of Federal Claims No: 15-1133V

24. Marvin Bradley Knight, Springfield, Missouri, Court of Federal Claims No: 15-1134V

25. Robert Leonard, Napa, California, Court of Federal Claims No: 15-1135V

26. Andrew Elefant, Lafayette, California, Court of Federal Claims No: 15-1136V

27. Pitey Morgan, Boston, Massachusetts, Court of Federal Claims No: 15-1137V

28. Janice DeWall, St. Louis Park, Minnesota, Court of Federal Claims No: 15-1138V

29. Ana Tan, Humble, Texas, Court of Federal Claims No: 15-1141V

30. Ashok Patel, Alexandria, California, Court of Federal Claims No: 15-1143V

31. Lacy Miron on behalf of M. M., Eugene, Oregon, Court of Federal Claims No: 15-1144V

32. Jessica Reape, Fort Drum, New York, Court of Federal Claims No: 15-1146V

33. Sharon Nathans, Encinitas, California, Court of Federal Claims No: 15-1147V

34. Alyce Schwenn, Milwaukee, Wisconsin, Court of Federal Claims No: 15-1148V

35. John Scannell, Oak Lawn, Illinois, Court of Federal Claims No: 15-1149V

36. Albert Arias, Orange, Connecticut, Court of Federal Claims No: 15-1150V

37. Mazie Lawson, Versailles, Kentucky, Court of Federal Claims No: 15-1152V

38. Juana Olga Durand on behalf of Jorge Antonio Durand, Deceased, Hollywood, Florida, Court of Federal Claims No: 15-1153V

39. Maurice Hoss, Meridian, Idaho, Court of Federal Claims No: 15-1154V

40. Debra Daniels, Newport Beach, California, Court of Federal Claims No: 15-1155V

41. Allison Villafane, Stoney Brook, New York, Court of Federal Claims No: 15-1156V

42. Lisa Stuffle, Boston, Massachusetts, Court of Federal Claims No: 15-1159V

43. Robert Boyer, Boston, Massachusetts, Court of Federal Claims No: 15-1160V

44. Christina Coffey and James Coffey on behalf of E. C., Lakeland, Florida, Court of Federal Claims No: 15-1161V

45. Dione Mitchell, Brandon, Florida, Court of Federal Claims No: 15-1162V

46. David Powell, Seneca, South Carolina, Court of Federal Claims No: 15-1164V

47. Kathryn S. Leffler, Elgin, Illinois, Court of Federal Claims No: 15-1165V

48. Richard C. Zug and Laura C. Zug on behalf of T. E. Z., Raleigh, North Carolina, Court of Federal Claims No: 15-1166V

49. Ramona Knorr, Knoxville, Tennessee, Court of Federal Claims No: 15-1169V

50. Audrey M. Abbott, Elgin, Illinois, Court of Federal Claims No: 15-1170V

51. Carol A. Marsyla, Stillwater, Minnesota, Court of Federal Claims No: 15-1172V

52. Maheshchan Inamdar, Wellesley Hills, Massachusetts, Court of Federal Claims No: 15-1173V

53. Colt Sanders, Dallas, Texas, Court of Federal Claims No: 15-1174V

54. Jeffrey Jarvis and Jessica Tomei on behalf of S. C. G. J., Berkeley, California, Court of Federal Claims No: 15-1176V

55. Marlene M. Nottage, Lakewood, Ohio, Court of Federal Claims No: 15-1177V

56. Joni Marco, El Cajon, California, Court of Federal Claims No: 15-1178V

57. Mary Radhakrishnan, Orange Park, Florida, Court of Federal Claims No: 15-1179V

58. Cinthia Van Alst on behalf of J. V., Phoenix, Arizona, Court of Federal Claims No: 15-1180V

59. Diane Odean Patrick, Scottsdale, Arizona, Court of Federal Claims No: 15-1181V

60. Joseph Grimaudo, Odessa, Florida, Court of Federal Claims No: 15-1182V

61. Ronny Dean Linebarger, Fort Worth, Texas, Court of Federal Claims No: 15-1185V

62. Mandy Bangerter on behalf of D. B., Cheyenne, Wyoming, Court of Federal Claims No: 15-1186V

63. Roosevelt Harper, Boston, Massachusetts, Court of Federal Claims No: 15-1188V

64. Alicia Lusk, Jacksonville, Florida, Court of Federal Claims No: 15-1190V

65. Victoria Thompson, La Plata, Maryland, Court of Federal Claims No: 15-1192V

66. Huest Swilley, Pensacola, Florida, Court of Federal Claims No: 15-1193V

67. William Smith, Middleburg Heights, Ohio, Court of Federal Claims No: 15-1194V

68. Deborah Bohm, Grovetown, Georgia, Court of Federal Claims No: 15-1195V

69. Justin Diaz on behalf of D. J. D., Panama City, Florida, Court of Federal Claims No: 15-1196V

70. Mark Thomann, Chicago, Illinois, Court of Federal Claims No: 15-1199V

71. Gary Willingham, Houston, Texas, Court of Federal Claims No: 15-1204V

72. Shirley Epps, Trappe, Pennsylvania, Court of Federal Claims No: 15-1205V

73. Kelly Tavano, Boston, Massachusetts, Court of Federal Claims No: 15-1206V

74. Roxanna Sarver, Littleton, New Hampshire, Court of Federal Claims No: 15-1207V

75. Sondra Ritchie-Coppler, Visalia, California, Court of Federal Claims No: 15-1208V

76. Erin Martinelli, Galt, California, Court of Federal Claims No: 15-1209V

77. Diann Alexander, Lebanon, Ohio, Court of Federal Claims No: 15-1211V

78. Adam Jack Kinder, Fort Benning, Georgia, Court of Federal Claims No: 15-1212V

79. Tadek Towpik and Renata Towpik on behalf of A. T., Chicago, Illinois, Court of Federal Claims No: 15-1213V

80. Kelly michelle Izell, Chattanooga, Tennessee, Court of Federal Claims No: 15-1214V

81. Christina Marshall, Forest Hill, Maryland, Court of Federal Claims No: 15-1215V

82. Jerome Unick, Wethersfield, Connecticut, Court of Federal Claims No: 15-1216V

83. John Rajotte, Washington, District of Columbia, Court of Federal Claims No: 15-1218V

84. Lindsey Johnsen, Baraboo, Wisconsin, Court of Federal Claims No: 15-1219V

85. Troy Sweatt and Brittany Sweatt on behalf of E. S., Dyersburg, Tennessee, Court of Federal Claims No: 15-1222V

86. Jessica Williams on behalf of E. W. H., Cheyenne, Wyoming, Court of Federal Claims No: 15-1224V

87. Debra Kelly, Hampstead, North Carolina, Court of Federal Claims No: 15-1225V

88. Connie M. Johns, Philipsburg, Pennsylvania, Court of Federal Claims No: 15-1226V

89. Lea Lydon, Lakeland, Florida, Court of Federal Claims No: 15-1227V

90. Diane Riddle, Bend, Oregon, Court of Federal Claims No: 15-1228V

91. Cynthia Bassett, Dallas, Georgia, Court of Federal Claims No: 15-1231V

92. Nancy Meramo on behalf of Glenn Meramo, Deceased, Vienna, Virginia, Court of Federal Claims No: 15-1234V

93. Barbara Stanley, Woodland Hills, California, Court of Federal Claims No: 15-1235V

94. Cathy Wesloskie, Baden, Pennsylvania, Court of Federal Claims No: 15-1237V

95. Paul R. Rodgers, Memphis, Tennessee, Court of Federal Claims No: 15-1238V

96. Jessica Jones, Vienna, Virginia, Court of Federal Claims No: 15-1239V

97. Kathleen Killea, Staten Island, New York, Court of Federal Claims No: 15-1240V

98. James Young, Chicago, Illinois, Court of Federal Claims No: 15-1241V

99. Kalli Kline, Ketchikan, Alaska, Court of Federal Claims No: 15-1243V

100. Steven Totten, Terre Haute, Indiana, Court of Federal Claims No: 15-1246V

101. Heather Chapell on behalf of G. R. C., Lithia, Florida, Court of Federal Claims No: 15-1247V

102. Bertha Hixson, Hixson, Tennessee, Court of Federal Claims No: 15-1248V

103. Bruce Miller, Highlands Ranch, Colorado, Court of Federal Claims No: 15-1251V

104. Stacey Spossey, Mooresville, North Carolina, Court of Federal Claims No: 15-1254V

105. Louai Salim, Phoenix, Arizona, Court of Federal Claims No: 15-1255V

106. Linda St. George, Kennewick, Washington, Court of Federal Claims No: 15-1257V

107. Taylor Lee Reynolds, Reno, Nevada, Court of Federal Claims No: 15-1258V

108. James D. Ellis, Firestone, Colorado, Court of Federal Claims No: 15-1259V

109. Deborah Kaiser, Pleasant Prairie, Wisconsin, Court of Federal Claims No: 15-1261V

110. Sirna Kyles, Las Vegas, Nevada, Court of Federal Claims No: 15-1262V

111. Linda K. Schupp, Tonawanda, New York, Court of Federal Claims No: 15-1264V

112. Kathleen Romero, Bridgewater, Massachusetts, Court of Federal Claims No: 15-1265V

113. Michael Crist, Phoenix, Arizona, Court of Federal Claims No: 15-1267V

114. Frederick J. Kruger, D.P.M., Fresno, California, Court of Federal Claims No: 15-1270V

115. Ricardo Gascon, Honolulu, Hawaii, Court of Federal Claims No: 15-1272V

116. Helene Quintana, Boston, Massachusetts, Court of Federal Claims No: 15-1273V

117. Estate of Cindy Bernardini, Rochester, New York, Court of Federal Claims No: 15-1274V

118. Janice Elliot, Hampton, Virginia, Court of Federal Claims No: 15-1276V

119. Kathy Jo Neverve, Kansas City, Missouri, Court of Federal Claims No: 15-1277V

120. Debra Allen, Wellesley Hills, Massachusetts, Court of Federal Claims No: 15-1278V

121. Paul McKenzie, Beverly Hills, California, Court of Federal Claims No: 15-1280V

122. Toni Boom, Dresher, Pennsylvania, Court of Federal Claims No: 15-1282V

123. Anna Hitt, Vienna, Virginia, Court of Federal Claims No: 15-1283V

124. Bonita Reeves, Vienna, Virginia, Court of Federal Claims No: 15-1284V

125. Alfred Altmiller, Denton, Texas, Court of Federal Claims No: 15-1285V

126. Carla Grivna on behalf of M G, Beverly Hills, California, Court of Federal Claims No: 15-1286V

127. Mary Clare Smith on behalf of C L S, Ormond Beach, Florida, Court of Federal Claims No: 15-1287V

128. Tressa J. Nelson, New London, Wisconsin, Court of Federal Claims No: 15-1288V

129. Alfred Anderson, Neptune, New Jersey, Court of Federal Claims No: 15-1289V

130. Susan Cottingham on behalf of K C, Phoenix, Arizona, Court of Federal Claims No: 15-1291V

131. Jennifer Soghomonian on behalf of K S, Lakewood, California, Court of Federal Claims No: 15-1292V

132. Ana Yuricek on behalf of Jeremy Yuricek, New York, New York, Court of Federal Claims No: 15-1293V

133. Lisa Santoroski, New York, New York, Court of Federal Claims No: 15-1294V

[FR Doc. 2015-30259 Filed 11-27-15; 8:45 am]

BILLING CODE 4165-15-P